ENVIRONMENTAL PROTECTION AGENCY

40 CFR Part 52

[EPA-R04-OAR-2014-0810; FRL-9923-93-Region 4]

Approval and Promulgation of Implementation Plans; Tennessee; Emissions Statement Requirement for the 2008 8-Hour Ozone Standard

AGENCY: Environmental Protection Agency.

ACTION: Proposed rule.

SUMMARY: The Environmental Protection Agency (EPA) is proposing to approve a state implementation plan revision submitted by the State of Tennessee, through the Tennessee Department of Environment and Conservation, on January 5, 2015, to address the emissions statement requirement for the 2008 8-hour ozone national ambient air quality standards (NAAQS). The revision affects Davidson, Rutherford, Shelby, Sumner, Knox, Blount, Anderson, Williamson, and Wilson Counties. Annual emissions statements are required for certain sources in all ozone nonattainment areas. These changes address requirements for the Knoxville, Tennessee 2008 8-hour ozone NAAQS nonattainment area (hereinafter referred to as the Knoxville Area) and the Tennessee portion of the Memphis, Tennessee-Arkansas-Mississippi 2008 8-hour ozone NAAQS nonattainment area (hereinafter referred to as the Memphis Area). The Knoxville Area is comprised of Knox and Blount County, and a portion of Anderson County, Tennessee, and the Tennessee portion of the Memphis Area is comprised of Shelby County, Tennessee. Davidson, Rutherford, Sumner, Williamson, Wilson and the remaining portion of Anderson County are not part of an ozone nonattainment area.

DATES: Written comments must be received on or before April 6, 2015.

ADDRESSES: Submit your comments, identified by Docket ID No. EPA-R04-OAR-2014-0810 by one of the following methods:

1. www.regulations.gov: Follow the on-line instructions for submitting comments.

2. Email: R4-ARMS@epa.gov.

3. Fax: (404) 562-9019.

4. Mail: “EPA-R04-OAR-2014-0810,” Air Regulatory Management Section (formerly the Regulatory Development Section), Air Planning and Implementation Branch (formerly the Air Planning Branch), Air, Pesticides and Toxics Management Division, U.S. Environmental Protection Agency, Region 4, 61 Forsyth Street SW., Atlanta, Georgia 30303-8960.

5. Hand Delivery or Courier: Lynorae Benjamin, Chief, Air Regulatory Management Section, Air Planning and Implementation Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding Federal holidays.

Please see the direct final rule which is located in the Rules section of this Federal Register for detailed instructions on how to submit comments.

FOR FURTHER INFORMATION CONTACT: Jane Spann, Air Regulatory Management Section, Air Planning and Implementation Branch, Air, Pesticides and Toxics Management Division, U.S. Environmental Protection Agency, Region 4, 61 Forsyth Street SW., Atlanta, Georgia 30303-8960. Ms. Spann can be reached at (404) 562-9029 and via electronic mail at spann.jane@epa.gov.

SUPPLEMENTARY INFORMATION: For additional information, see the direct final rule which is published in the Rules section of this Federal Register. A detailed rationale for the approval is set forth in the direct final rule and incorporated by reference herein. If no adverse comments are received in response to this rule, no further activity is contemplated. If EPA receives adverse comments, the direct final rule will be withdrawn and all adverse comments received will be addressed in a subsequent final rule based on this proposed rule. EPA will not institute a second comment period on this document. Any parties interested in commenting on this document should do so at this time.

Dated: February 13, 2015.
V. Anne Heard,
Acting Regional Administrator, Region 4.

[FR Doc. 2015-04488 Filed 3-4-15; 8:45 am]

BILLING CODE 6560-50-P